DEPARTMENT OF LABOR

Employment and Training Administration

[TA-W-74,549]

Algonac Cast Products, Inc., Algonac, MI; Notice of Revised Determination on Reconsideration

On November 10, 2010, the Department issued a Notice of Affirmative Determination Regarding Application for Reconsideration for the workers and former workers of Algonac Cast Products, Inc., Algonac, Michigan (subject firm) to apply for Trade Adjustment Assistance (TAA). The Department's Notice was published in the Federal Register on November 23, 2010 (75 FR 7145). Workers are engaged in employment related to the production of marine hardware and are not separately identifiable by article produced.

During the reconsideration investigation, the Department received additional and new information from the subject firm, conducted an expanded customer survey, and analyzed import data of like or directly competitive articles.

Section 222(a)(1) has been met because a significant number or proportion of workers at the subject firm became totally or partially separated, or threatened with such separation.

Section 222(a)(2)(A)(i) has been met because subject firm sales and production decreased during 2009 from 2008 levels.

Section 222(a)(2)(A)(ii) has been met because there were increased imports of articles like or directly competitive with marine hardware produced by the subject firm.

Finally, Section 222(a)(2)(A)(iii) has been met because the increased imports contributed importantly to the worker group separations and sales/production declines at Algonac Cast Products, Inc., Algonac, Michigan.

Conclusion

After careful review of the additional facts obtained on reconsideration, I determine that workers and former workers of Algonac Cast Products, Inc., Algonac, Michigan, who are engaged in employment related to the production of marine hardware, meet the worker group certification criteria under Section 222(a) of the Act, 19 U.S.C. 2272(a). In accordance with Section 223 of the Act, 19 U.S.C. 2273, I make the following certification:

All workers of Algonac Cast Products, Inc., Algonac, Michigan, who became totally or partially separated from employment on or after August 18, 2009, through two years from the date of this revised certification, and all workers in the group threatened with total or partial separation from employment on date of certification through two years from the date of certification, are eligible to apply for adjustment assistance under Chapter 2 of Title II of the Trade Act of 1974, as amended.

Signed in Washington, DC, this 2nd day of May, 2011.
Del Min Amy Chen,
Certifying Officer, Office of Trade Adjustment Assistance.

[FR Doc. 2011-11644 Filed 5-11-11; 8:45 am]

BILLING CODE P